SECURITIES AND EXCHANGE COMMISSION

17 CFR Parts 240, 241, and 250

[Release No. 34-72472; File No. S7-02-13]

RIN 3235-AL25

Application of “Security-Based Swap Dealer” and “Major Security-Based Swap Participant” Definitions to Cross-Border Security-Based Swap Activities; Republication

Correction

In rule document R1-2014-15337 beginning on page 47278 in the issue of Tuesday, August 12, 2014, make the following correction:

On page 47278, in the first column, in the eleventh through seventeenth lines, and on page 47372, in the third column, in the eighth through fourteenth lines, the editorial notes should read as follows:

Editorial Note: Rule document 2014-15337 was originally published on pages 39067 through 39162 in the issue of Wednesday, July 9, 2014. In that publication the footnotes contained erroneous entries. The corrected document is republished in its entirety.

[FR Doc. C1-2014-15337 Filed 8-18-14; 8:45 am]

BILLING CODE 1505-01-D